DEPARTMENT OF TRANSPORTATION

Federal Aviation Administration

Notice of Intent To Prepare an Environmental Impact Statement and Hold Scoping Meetings for Federal Aviation Administration Approval of Airline Operations Specifications To Accommodate Proposed Scheduled Air Service Into Mammoth Yosemite Airport, Mammoth Lakes, CA

AGENCY: Federal Aviation Administration, DOT.

ACTION: Notice of Intent to Prepare an Environmental Impact Statement (EIS) and to hold one (1) public scoping meeting and one (1) governmental and public agency scoping meeting for Federal Aviation Administration (FAA) approval of Airline Operations Specifications to accommodate proposed scheduled air service into Mammoth Yosemite Airport (MMH). This notice also serves as formal notice of FAA's termination and withdrawal of its Notice of Intent to Prepare an EIS for the Proposed Expansion of MMH published in Federal Register (FR) Volume 68 Number 214 dated November 5, 2003. The Town of Mammoth Lakes has withdrawn its prior proposal to expand facilities at Mammoth Yosemite Airport and EIS is no longer required.

SUMMARY: The FAA is issuing this notice to advise the public that an EIS will be prepared for the proposed approval of Operation Specifications for Horizon Air to provide commercial airline service with regional jets into Mammoth Yosemite Airport, Mammoth Lakes, California utilizing Bombardier DHC-8-402 (Q400). The establishment of scheduled commercial service into Mammoth Yosemite Airport also necessitates a change in the airport's 14 CFR Part 139 Certification from Class IV to Class I.

If the FAA determines the potential environmental impacts of the proposed actions are not significant, FAA may consider, after public notification and agency coordination, completing the NEPA process for this proposal as an Environmental Assessment and issuing a Finding of No Significant Impact and Record of Decision.

To ensure that all significant issues related to the proposed action are identified, one (1) public scoping meeting and one (1) governmental and public agency scoping meeting will be held.

FOR FURTHER INFORMATION CONTACT: Camille Garibaldi, Environmental Protection Specialist, San Francisco Airports District Office, Federal Aviation Administration, Western-Pacific Region, 831 Mitten Road, Room 210, Burlingame, California 94010-1303. Telephone: 650/876-2778 extension 613. Comments on the scope of the EIS should be submitted to the address above and must be received no later than 5:00 p.m. Pacific Daylight Time, on Wednesday, August 30, 2006.

SUPPLEMENTARY INFORMATION: The Federal Aviation Administration (FAA), as the lead agency, will prepare an EIS that will disclose the potential environmental impacts of FAA approval of Airline Operations Specifications to accommodate proposed scheduled air service into Mammoth Yosemite Airport (MMH). Horizon Air has provided the FAA with a letter of intent to initiate passenger service into Mammoth Yosemite Airport using the Bombardier DHC 8-402 (Q400). The establishment of scheduled commercial service into Mammoth Yosemite Airport also necessitates a change in the airport's Operating Certificate from Class IV to Class I, pursuant to Title 14, Code of Federal Regulations, Part 139.

The FAA has determined that an EIS is the most appropriate NEPA document at this time. In making this determination, FAA has considered the injunction issued by the U.S. District Court for the Northern District of California for the Town of Mammoth Lake's proposed expansion of the airport, and the resources potentially affected by establishment of scheduled air carrier service.

In November of 2005, the Town of Mammoth Lakes representatives withdrew their proposed runway expansion project to Mammoth Yosemite Airport in favor of a reduced proposal for resumption of scheduled regional air carrier service that would be accommodated within the existing configuration of the airport. As a result of this decision, the FAA has terminated preparation of an EIS for the proposed expansion of Mammoth Yosemite Airport. See FR Volume 68, Number 214. Should FAA identify potential impacts to any resource designated under 49 U.S.C. 303(c) (commonly known as Section 34(f)), the EIS will also serve as FAA's Section 4(f) statement.

Horizon Air is proposing to begin scheduled regional air carrier service using existing facilities at Mammoth Yosemite Airport beginning in December of 2007 with two flights per day from Los Angeles International Airport during the winter season, (December to April). Proposed winter service is projected to increase to a maximum of eight flights per day by the year 2010. The aviation activity forecasts project the addition of two flights per day during the summer months beginning sometime in 2011. Horizon Air has provided the FAA with a written expression of interest to begin scheduled service utilizing Q-400 aircraft.

The Town of Mammoth Lakes, sponsor for Mammoth Yosemite Airport, holds a Class IV (unscheduled service) certificate pursuant to 14 CFR Part 139. The airport is located approximately five miles east of the Town of Mammoth Lakes and north of U.S. Route 395 in Mono County, California. The airport has one east-west oriented runway (9/27) with a parallel and connecting taxiway system. Runway 9/27 is paved with asphalt and is 7,000 feet long by 100 feet wide. The airport has a field elevation of 7,128-feet above mean sea level. The airport currently accommodates unscheduled air carrier operations and general aviation aircraft operations and provides facilities including aircraft hangars and outdoor tiedowns.

The following Alternatives will be evaluated in the EIS; additional reasonable alternatives may be evaluated in the EIS as a result of the scoping process.

No Action Alternative: This alternative consists of no change to Horizon Air operation specifications and no change would occur to the current Part 139 Class IV (unscheduled) certificate status of the airport.

Proposed Action: This alternative consists of FAA approval of operation specifications for Horizon Air for scheduled service to Mammoth Yosemite Airport using regional aircraft and approval of a Class I (scheduled service) Part 139 certificate for Mammoth Yosemite Airport. The proposed service would utilize existing Runway 9/27 and existing airport facilities without the construction of new facilities.

Comments and suggestions are invited from Federal, State and local agencies, and other interested parties to ensure that the full range of issues, alternatives and impacts related to the proposed action and the alternatives are addressed and all significant issues are identified. Written comments and suggestions concerning the scope of the EIS may be mailed to the FAA informational contact listed above and must be received no later than 5 p.m., Pacific Daylight Time, on Wednesday, August 30, 2006.

Public Scoping Meetings: The FAA will hold one (1) public and one (1) governmental and public agency scoping meeting to solicit input from the public as well as various Federal, State and local agencies which have jurisdiction by law or have special expertise with respect to any environmental issue associated with the proposed project. A scoping meeting specifically for governmental and public agencies will be held on Thursday, August 24, 2006 from 1:00 p.m. to 4:00 p.m., Pacific Time, at the Minaret Village Shopping Center, Suite Z, Town Council Chambers, 437 Old Mammoth Road, Mammoth Lakes, CA. The public scoping meeting will be held at the same location on Thursday, August 24, 2006, from 5 p.m. to 8 p.m. Pacific Daylight Time.

Issued in Hawthorne, California, on July 17, 2006.
George Aiken,
Acting Manager, Airports Division, Western-Pacific Region, AWP-600.

[FR Doc. 06-6423 Filed 7-21-06; 8:45 am]

BILLING CODE 4910-13-M